COMMISSION ON CIVIL RIGHTS

Notice of Public Meeting of the Arizona Advisory Committee; Update

AGENCY: Commission on Civil Rights.

ACTION: Notice; update to meeting time.

SUMMARY: The Commission on Civil Rights published a notice in the Federal Register on Friday, December 2, 2022, concerning a meeting of the Arizona Advisory Committee. The meeting time has since changed.

FOR FURTHER INFORMATION CONTACT: Kayla Fajota (DFO), kfajota@usccr.gov.

Correction: In the Federal Register on Friday, December 2, 2022, in FR Document Number 2022-26295, on page 74124, first and second columns, change the April 7, 2023, meeting time from 12:15 p.m. to 1:15 p.m. Arizona Time. In addition, the link to join will remain the same: https://tinyurl.com/mr2cycdf.

Dated: March 15, 2023.
David Mussatt,
Supervisory Chief, Regional Programs Unit.

[FR Doc. 2023-05652 Filed 3-17-23; 8:45 am]

BILLING CODE 6335-01-P